GENERAL SERVICES ADMINISTRATION

[Notice-CX-2018-01; Docket No. 2018-0002; Sequence No. 24]

Office of Human Resources Management; SES Performance Review Board

AGENCY: Office of Human Resources Management (OHRM), General Services Administration (GSA).

ACTION: Notice.

SUMMARY: Notice is hereby given of the appointment of new members to the General Services Administration Senior Executive Service Performance Review Board. The Performance Review Board assures consistency, stability, and objectivity in the performance appraisal process.

DATES: These appointments are effective September 24, 2018.

FOR FURTHER INFORMATION CONTACT: Ms. Shonna James, Director, Executive Resources Division, Office of Human Resources Management, General Services Administration, 1800 F Street NW, Washington, DC 20405, 202-230-7005.

SUPPLEMENTARY INFORMATION: Section 4314(c)(1) through (5) of title 5 U.S.C requires each agency to establish, in accordance with regulation prescribed by the Office of Personnel Management, one or more SES performance review board(s). The board is responsible for making recommendations to the appointing and awarding authority on the performance appraisal ratings and performance awards for the Senior Executive Service employees.

The following have been designated as members of the Performance Review Board of GSA:

• Allison Brigati, Deputy Administrator, Office of the Administrator—Chair.

• Giancarlo Brizzi, Regional Commissioner, Public Buildings Service, Greater Southwest Region.

• Mary Davie, Deputy Commissioner, Federal Acquisition Service.

• Michael Gelber, Deputy Commissioner, Public Buildings Service.

• Antonia Harris, Chief Human Capital Officer, Office of Human Resources Management.

• Tiffany Hixon, Regional Commissioner, Federal Acquisition Service, Northwest, Arctic Region.

• Jack St. John, General Counsel.

• Alan Thomas, Commissioner, Federal Acquisition Service.

Dated: September 18, 2018.
Emily W. Murphy,
Administrator, General Services Administration.

[FR Doc. 2018-20704 Filed 9-21-18; 8:45 am]

BILLING CODE 6820-FM-P